DEPARTMENT OF COMMERCE

International Trade Administration

[A-351-605]

Frozen Concentrated Orange Juice From Brazil; Final Results of Antidumping Duty Administrative Review

AGENCY: Import Administration, International Trade Administration, Department of Commerce.

ACTION: Notice of final results of antidumping duty administrative review.

SUMMARY: On June 6, 2000, the Department of Commerce published the preliminary results of administrative review of the antidumping duty order on frozen concentrated orange juice from Brazil. The merchandise covered by this order is frozen concentrated orange juice from Brazil. This review covers the U.S. sales of three manufacturers/exporters, Citrovita Agro Industrial Ltda., Cambuhy MC Industrial Ltda., and Cambuhy Citrus Comercial e Exportadora. We have collapsed these entities for purposes of this proceeding and have calculated a single margin for them. The period of review is May 1, 1998, through April 30, 1999.

Based on our analysis of the comments received, we have made changes in the margin calculations. Therefore, the final results differ from the preliminary results. The final weighted-average dumping margins for the reviewed firms are listed below in the section entitled “Final Results of Review.”

EFFECTIVE DATE: October 11, 2000.

FOR FURTHER INFORMATION CONTACT: Irina Itkin or Shawn Thompson, Import Administration, International Trade Administration, U.S. Department of Commerce, Washington, D.C. 20230; telephone: (202) 482-0656 or (202) 482-1776, respectively.

SUPPLEMENTARY INFORMATION:

The Applicable Statute

Unless otherwise indicated, all citations to the Tariff Act of 1930, as amended (the Act), are references to the provisions effective January 1, 1995, the effective date of the amendments made to the Act by the Uruguay Round Agreements Act (URAA). In addition, unless otherwise indicated, all citations to the Department of Commerce's (the Department's) regulations are to 19 CFR Part 351 (1999).

Background

This review covers three manufacturers/exporters, Citrovita Agro Industrial Ltda. (Citrovita), Cambuhy MC Industrial Ltda. (Cambuhy), and Cambuhy Citru Comercial e Exportadora (Cambuhy Exportadora). Because these companies met the requirements of 19 CFR 351.401(f), we have collapsed these entities for purposes of this proceeding and have calculated a single margin for them. For further discussion, see the “Affiliated Producers” section of this notice, below.

On June 6, 2000, the Department published in the Federal Register the preliminary results of administrative review of the antidumping duty order on frozen concentrated orange juice (FCOJ) from Brazil. See Frozen Concentrated Orange Juice from Brazil; Preliminary Results of Antidumping Duty Administrative Review, 65 FR 35892 (June 6, 2000).

We invited parties to comment on our preliminary results of review. At the request of Citrovita, we held a public hearing on August 9, 2000. The Department has conducted this administrative review in accordance with section 751 of the Act.

Scope of Review

The merchandise covered by this review is frozen concentrated orange juice from Brazil. The merchandise is currently classifiable under item 2009.11.00 of the Harmonized Tariff Schedule of the United States (HTSUS). The HTSUS item number is provided for convenience and for U.S. Customs purposes. The Department's written description remains dispositive.

Period of Review

The period of review (POR) is May 1, 1998, through April 30, 1999.

Affiliated Producers

During the POR, a sister company to Citrovita's parent company purchased another Brazilian producer of FCOJ and that producer's affiliated trading company (i.e., Cambuhy and Cambuhy Exportadora, respectively). We determine that it is appropriate to treat Citrovita and these affiliated parties as a single entity. In accordance with 19 CFR 351.401(f), we have collapsed Citrovita, Cambuhy, and Cambuhy Exportadora for purposes of the final results. However, because there is no evidence that these companies were affiliated prior to September 1998, we have used only the sales and cost data reported for Cambuhy and Cambuhy Exportadora from September 1998 through the end of the POR for purposes of calculating normal value. For further discussion, see Comment 1 in the “Issues and Decision Memorandum” (Decision Memo) from Richard W. Moreland, Deputy Assistant Secretary, Import Administration, to Troy H. Cribb, Acting Assistant Secretary for Import Administration, dated October 4, 2000.

Analysis of Comments Received

All issues raised in the case briefs by parties to this administrative review are addressed in the Decision Memo which is hereby adopted by this notice. A list of the issues which parties have raised and to which we have responded, all of which are in the Decision Memo, is attached to this notice as an Appendix. Parties can find a complete discussion of all issues raised in this review and the corresponding recommendations in this public memorandum, which is on file in the Central Records Unit, room B-099, of the main Department building.

In addition, a complete version of the Decision Memo can be accessed directly on the Web at http://ia.ita.doc.gov. The paper copy and electronic version of the Decision Memo are identical in content.

Changes Since the Preliminary Results

Based on our analysis of comments received, we have made certain changes in the margin calculations. These changes are discussed in the relevant sections of the Decision Memo.

Final Results of Review

We determine that the following percentage weighted-average margin percentage exists for the period May 1, 1998, through April 30, 1999:

Manufacturer/exporter | Percent margin
Citrovita Agro Industrial Ltda/
Cambuhy MC Industrial Ltda/
Cambuhy Citrus Comercial e Exportadora | 25.87

The Department shall determine, and Customs shall assess, antidumping duties on all appropriate entries. In accordance with 19 CFR 351.212(b), we have calculated importer-specific assessment rates. We divided the total dumping margins for the reviewed sales by their total entered value for each importer. We will direct Customs to assess the resulting percentage margins against the entered Customs values for the subject merchandise on each of that importer's entries under the relevant order during the review period.

Cash Deposit Requirements

The following deposit requirements will be effective upon publication of this notice of final results of administrative review for all shipments of FCOJ from Brazil entered, or withdrawn from warehouse, for consumption on or after the date of publication, as provided by section 751(a)(1) of the Act: (1) The cash deposit rates for the reviewed firm will be the rate shown above; (2) for previously reviewed or investigated companies not listed above, the cash deposit rate will continue to be the company-specific rate published for the most recent period; (3) if the exporter is not a firm covered in this review, a prior review, or the original less-than-fair-value (LTFV) investigation, but the manufacturer is, the cash deposit rate will be the rate established for the most recent period for the manufacturer of the merchandise; and (4) the cash deposit rate for all other manufacturers or exporters will continue to be 1.96 percent. This rate is the “All Others” rate from the LTFV investigation.

These deposit requirements shall remain in effect until publication of the final results of the next administrative review.

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

This notice also serves as the only reminder to parties subject to administrative protective orders (APO) of their responsibility concerning the return or destruction of proprietary information disclosed under APO in accordance with 19 CFR 351.305 or conversion to judicial protective order is hereby requested. Failure to comply with the regulations and terms of an APO is a violation which is subject to sanction.

We are issuing and publishing this determination and notice in accordance with sections section 751(a)(1) and 777(i) of the Act.

Dated: October 4, 2000.
Troy H. Cribb,
Acting Assistant Secretary for Import Administration.

Appendix—Issues in Decision Memo

Comments

1. Collapsing of Affiliated Parties

2. Calculation of Financing Expenses

3. Treatment of Citrovita's Foreign Exchange Losses

4. Treatment of Cambuhy's Foreign Exchange Losses

5. Calculation of the Cost of Oranges Produced by an Affiliated Party

6. Calculation of Selling, General, and Administrative Expenses and Financing Expenses for the Collapsed Entity

[FR Doc. 00-26074 Filed 10-10-00; 8:45 am]

BILLING CODE 3510-DS-P